SMALL BUSINESS ADMINISTRATION

[Disaster Declaration #12467]

Arizona Disaster #AZ-00015 Declaration of Economic Injury

AGENCY: U.S. Small Business Administration.

ACTION: Amendment 1.

SUMMARY: This is an amendment of the Economic Injury Disaster Loan (EIDL) declaration for the State of Arizona, dated 02/07/2011.

Incident: Rainfall, Flooding and Flash Flooding.

Incident Period: 10/03/2010 through 10/06/2010.

Effective Date: 03/09/2011.

EIDL Loan Application Deadline Date: 11/07/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of an Economic Injury Disaster Declaration for the State of Arizona, dated 02/07/2011 is hereby amended to include the following areas as adversely affected by the disaster.

Primary Counties: Maricopa.

Contiguous Counties: Arizona: La Paz, Pima, Pinal, Yuma.

All other information in the original declaration remains unchanged.

(Catalog of Federal Domestic Assistance Number 59002)

Dated: March 9, 2011.
Karen G. Mills,
Administrator.

[FR Doc. 2011-5989 Filed 3-14-11; 8:45 am]

BILLING CODE 8025-01-P